OFFICE OF MANAGEMENT AND BUDGET

Office of Federal Financial Management; Standard Data Elements for Federal Grant Applications

AGENCY: Office of Federal Financial Management (OFFM), Office of Management and Budget (OMB).

ACTION: Notice of proposed requirement to establish standard data elements.

SUMMARY: OMB proposes (1) to establish a standard set of data elements and definitions as found on the SF-424, plus five additional data elements for Federal agencies and grant applicants to use on both paper and electronic applications for discretionary grants, and (2) to require a new assurance statement to replace the current assurances found on the SF-424. The Federal E-Grants initiative calls for the development of a one-stop, electronic grant portal where potential grant recipients will receive full service electronic grant administration as part of the implementation of the Federal Financial Assistance Management Improvement Act of 1999 (Pub. L. 106-107).

The grantee community is familiar with most of the data elements, which have been required by Standard Form (SF) 424, “Application for Federal Assistance,” SF-424A, Budget Information Non-Construction; SF-424B, Assurances—Non-Construction Programs; SF-424C, Budget Information Construction Programs, and SF-424D, Assurances—Construction Programs. OMB is adding the following five new standard data elements to those already appearing on the current SF-424 and will revise the form accordingly. The five new standard data elements being added are:

(1) Requesting entity's universal identifier (see proposal to use the Duns Universal Numbering System (DUNS) in the October 30, 2002 Federal Register, Vol. 67, No. 210, pp. 66177-66178;

(2) Requesting entity's e-mail address;

(3) Requesting entity's country location for address purposes;

(4) Requesting entity's facsimile (Fax) number; and

(5) Requesting entity's indictor for “Not-For-Profit” under “Type of Applicant” based upon how the entity is classified with the Internal Revenue Service.

The use of government-wide standard data elements by grant applicants and the Federal agencies that award discretionary grants or cooperative agreements establishes the data standard for grant applications submitted via the E-Grants portal grant application software known as E-Apply. In order to establish data standards, this Notice also identifies how the data will be transmitted for E-Apply. The proposed electronic transmission of the data set is to use the conventions established by the American National Standards Institute (ANSI) 194 Data Transaction Set. These data elements will be incorporated into the first version of E-Apply, scheduled for release in October 2003, which will permit applicants to apply electronically for Federal grants.

The consolidated assurance statement, which is being proposed to replace the current assurances found on the SF-424B and SF-424D, is designed to provide a streamlined way for Federal agencies to obtain assurance about compliance with applicable requirements. OMB believes the addition of the consolidated assurance statement will allow applicants to proceed through the application process in a more efficient manner. Only at time of award would the grantee address any specific agency assurances that are incorporated in the award and are above and beyond the standard assurances.

DATES: Comments on the proposed data elements, definitions and consolidated assurance statement must be submitted by June 9, 2003.

ADDRESSES: Due to potential delays in OMB's receipt and processing of mail sent through the U.S. Postal Service, we encourage respondents to submit comments electronically to ensure timely receipt. We cannot guarantee that comments mailed will be received before the comment closing date.

Electronic mail comments may be submitted to: sswab@omb.eop.gov. Please include “Standard Data Elements Comments” in the subject line and put the full body of your comments in the text of the electronic message and as an attachment. Please include your name, title, organization, postal address, telephone number, and E-mail address in the text of the message. Comments may also be submitted via facsimile to 202-395-3952. Comments may be mailed to Sandra Swab, Office of Federal Financial Management, Office of Management and Budget, Room 6025, New Executive Office Building, Washington, DC 20503.

FOR FURTHER INFORMATION CONTACT: Sandra Swab, Office of Federal Financial Management, Office of Management and Budget, telephone 202-395-3993, and E-mail: sswab@omb.eop.gov.

SUPPLEMENTARY INFORMATION:

Standard Set of Data Elements and Definitions

The Federal E-Grants initiative, one of 24 initiatives of the Administration's overall E-Government program for improving access to Government services via the Internet, calls for the development of a one-stop, electronic grant portal where potential grant recipients will receive full service electronic grant administration. OMB is seeking to develop a standard set of data elements that will be used by grant-making Federal agencies to develop web-based grant application software. The application software, E-Apply, will permit the use of on-line grant applications by October 2003. This Federal Register announcement seeks public comment on establishing the current data elements and definitions of the SF-424 with the proposed five additional data elements as the standard data set that Federal agencies would include in the first version for electronic grant applications. The standard data elements are found in the attachment to this notice. The attachment identifies the current data elements and definitions found on the SF-424. The proposed data elements have been required of grant applicants when submitting SF-424s to which OMB is proposing to add five new elements: (1) Requesting entity's universal identifier (see proposal to use the DUNS in the October 30, 2002 Federal Register); (2) requesting entity's e-mail address; (3) requesting entity's country location; (4) requesting entity's facsimile (Fax) number; and (5) for Not-For-Profit entities only, requesting entity's indicator for “Type of Applicant.”

Additional efforts not included in this initial proposal, seek to have the Federal government review various grants management processes that focus on different types of business lines that cut across similar grant programs. For example, grant programs that focus on research may need to have different grant application information than programs that focus on education. However, many different agency grant programs may be similar in a broad subject category and collect similar information. For those grant programs found in broad subject categories and cut across various Federal agencies, the data may be standardized and shared by collecting the data only once. This cross-agency standard data may become a subset to the standard data collected on the SF-424. When such data is identified and approved, it is the intention to revise the suite of SF-424 standard collection forms to identify cross-agency data. This effort will be done in consultation with the grants community at-large through the public comment process. It is thought the standardization of data and establishment of standard data for similar types of grant programs will enhance the collection of data and help to overall simplify the grants application and management processes.

Policy for Electronic Grant Applications

The SF-424 data elements, including the five proposed data elements, are attached for review and comment and are contained within the American National Standards Institute's (ANSI) Grant Application or Assistance Application 194 Transaction Data Set, a national electronic standard for the Federal grant application. The 194 Transaction Data Set has evolved under the auspices of the Inter-Agency Electronic Grants Committee (IAEGC), ANSI, Federal Demonstration Partnership, universities, research institutions, and Federal grant-making agencies. Using an established national electronic standard to implement the E-Apply software application helps to standardize the data conventions and provides a foundation upon which to build future applications. The attachment correlates the SF-424 data to the related data found in the 194 Transaction Data Set. Information on the 194 Transaction Data Set can be found on the Inter-Agency Electronic Grants Committee's (IAEGC) Web site at www.iaegc.gov.

Consolidated Assurance of Compliance for Grant Applicants

We further propose to revise the SF-424 to provide a streamlined way for Federal agencies to obtain assurances of compliance with applicable requirements. Currently, a Federal program office that uses the entire suite of SF-424 forms for its applications would require an applicant to submit assurances on, either a SF-424B, “Assurances—Non-Construction Programs,” or a SF-424D, “Assurances—Construction Programs.”

The assurance forms (SF-424B/D) list many individual national policy requirements and a few selected administrative requirements based in statute, Executive Order, regulation, or OMB circular language. The national policy requirements address societal objectives such as protection of the environment or ensuring civil rights. The selected administrative matters, such as conduct of audits, relate to stewardship of public funds. The forms require the applicant's “authorized certifying official” to sign, thereby agreeing that the applicant will comply with the requirements if an award is made.

We propose an approach that coordinates the business processes of application and award at the time of announcing funding availability. Agencies' announcements will identify administrative and national policy requirements with which applicants must comply if they receive awards, thereby helping potential applicants make more informed decisions about whether to apply. If an entity is unable or unwilling to comply with any of these requirements, it should not invest time and money in preparing an application.

At time of application, applicants would be asked to sign the following consolidated assurance on the cover page of the SF-424, which would replace the lists of individual requirements that currently appear on the SF-424B and SF-424D:

I have reviewed the requirements that apply to recipients of awards under this program* and assure, as the duly authorized representative of the applicant, that the applicant will comply with those requirements and other terms and conditions if it receives an award.

*If you are submitting this application in response to a Federal agency announcement of a funding opportunity, consult that announcement or any associated application instructions for the Internet site or other location where you may view the generally applicable requirements. Otherwise, if you do not know where to view them, contact the office to which you are submitting this application to ask about the location.

At time of award, a successful applicant would receive an award document with terms and conditions incorporating the applicable national policy and administrative requirements. These would be the same requirements for which the applicant provided an assurance of compliance at time of application, except for any award-specific requirements that the agency imposes or any new requirements or changes made to existing requirements after the agency issued its announcement.

This new approach for a consolidated assurance has a number of advantages:

• It is easier to give potential applicants up-to-date information on applicable requirements. National policy and administrative requirements change over time, due to enactment or adoption of new policies and repeal or revision of existing ones. Updating a standard form is a cumbersome and lengthy process, so it is difficult to keep forms up to date with the latest policy changes. The SF-424B and SF-424D, for example, are not fully up to date at this time.

• The consolidated assurance eliminates the need to update the electronic submission format each time a requirement changes. As the Federal Government moves from paper forms to electronic transactions, periodically updating the list of national policy and administrative requirements would require reprogramming the format for electronic submission of applications if each requirement was individually listed in the assurances of compliance. Reprogramming would increase costs and administrative burdens. Instead, the change would be addressed in agencies' terms and conditions, which are more easily updated.

• Potential applicants only need to consult a single source, the agency's terms and conditions, for all applicable requirements before providing assurance. Currently, an awarding agency or program office must supplement the SF-424B or SF-424D with information about agency-or program-specific requirements because the standard forms list only government-wide requirements.

It is anticipated that OMB would change the SF-424 to reflect the above assurance language changes when the additional data elements are added to the form and public comment supports such a change. Current grant application forms can be found at http://www.whitehouse.gov/omb/grants.

Questions and Comments

We welcome your input on any aspect of the data elements and inclusion of the consolidated assurance in place of those found on the SF-424B and SF-424D. Questions that you may wish to address include:

• Are the proposed data elements found on the current SF-424 the essential ones needed to apply for Federal grants? If you recommend adding or deleting any data elements, please explain why.

• Are the current definitions found on the SF-424 clear and explicitly define what is required for applicants to enter on the SF-424, “Application for Federal Assistance?”

• Are the names of data elements and any terms used in describing them readily understandable? Are the terms generic enough to cover all programs and agencies in which you might have an interest? Do you have suggestions for alternate terms?

• Is the current SF-424, plus the five additional proposed data elements and assurance language, sufficient enough to establish the SF-424 as the data standard? If comments indicate a more in-depth change to the SF-424, should OMB establish this as the data standard and then proceed with a more complete revision at a later date?

• Is the assurance language feasible for use by Federal agencies in lieu of those found on the SF-424B and SF-424D?

Joseph L. Kull,
Deputy Controller.

Attachment: The attachment is a series of tables that list the name of the data element found on the SF-424 with the description found on the grant application form. The attachment also lists the data element name found in the 194 Transaction Data Set for comparison. Use of the 194 Transaction Data Set is to help define data layout for electronic transmission. Each table is titled to help better understand the groups of the data elements.

Table 1.—All Federal Grant Application Information
SF-424 Caption or Block No. | SF-424 Description | 194 Data element name for electronic submission
Type of Submission (No. 1) | Self-explanatory (Identify if project application or pre-application, construction or non-construction.) | Construction Application Indicator.
Date Submitted (No. 2) | Date application submitted to Federal agency (or State if applicable) | Application Date.
Applicant Identifier | Applicant's control number (if applicable) | Applicant's Application Identification.
Date received by State (No. 3) | State use only (if applicable) | Date Received by State/Other Reviewer.
State Application Identifier | State use only (if applicable) | Reviewing Organization Application Number.
Date Received by Federal Agency (No. 4) | If this application is to continue or revise an existing award, enter date of present award | Date Received by Federal Agency.
Federal Identifier | If this application is to continue or revise an existing award, enter present Federal identifier number. If for a new project, leave blank | Federal Agency Application Number.
Type of Application (No. 8) | Check appropriate box and enter appropriate letter(s) in the space(s) provided: —“New” means a new assistance award —“Continuation” means an extension for an additional funding/budget period for a project with a projected completion date —“Revision” means any change in the Federal Government's financial obligation or contingent liability from an existing obligation | Application Type.
If Revision | Enter the appropriate choice to specify reason for renewal. (List: New, Continuation, Revision. If revision, indicate: List: Increase Award, Decrease Award, Increase Duration, Decrease Duration, Other (Specify)) | Application Purpose.
CFDA Number (No. 10) | Use the Catalog of Federal Domestic Assistance (CFDA) number of the program under which assistance is requested | Catalog of Federal Domestic Assistance Number.
CFDA Title (No. 10) | Use the Catalog of Federal Domestic Assistance (CFDA) title of the program under which assistance is requested | Program Name.
Descriptive Title of Applicant's Project (No 11) | Enter a brief descriptive title of the project. If more than one program is involved, you should append an explanation on a separate sheet. If appropriate (e.g., construction or real property projects), attach a map showing project location. For pre-application, use a separate sheet to provide a summary description of this project | Application Title.

Table 2.—Organization/Applicant Information
SF-424 Caption or Block No. | SF-424 Description | 194 Data element name for electronic submission
DUNS New Addition | The DUNS number of the organization. (Subject to OMB approval of single identifier.) | Organization DUNS.
Applicant Name/Address (No. 5) | Legal name of applicant, name of primary organizational unit that will undertake the assistance activity, complete address of applicant, including country, if other than US, and name and telephone number and e-mail address of the person to contact on matters related to this application | Organization Name.
Name of Federal Agency (No. 9) | Name of the Federal Agency from which assistance is being requested with this application | Organization Type.
Organizational Unit (No. 5) | The department, service, laboratory, or equivalent level within the organization | Department.
Organizational Unit (No. 5) | The division, office, or major subdivision of the organization | Division.
Employer Identification Number (No. 6) | Enter Employer's Identification Number (EIN) as assigned by the Internal Revenue Service | Employer's Identification Number.
Type of Applicant (No. 7) New Addition: Not for Profit | Enter the appropriate choice in the space provided to show the applicant type such as state or county. (List: State, County Municipal Township, Interstate, Intermunicipal, Special District, Independent School District, State Controlled Institution of Higher Learning, Private University, Indian Tribe, Individual, Profit organization, Not for Profit, Other (specify)) | Entity Type.
Congressional District (No. 14) | List the applicant's Congressional District and any (District(s) affected by the program or project | Congressional District.

Table 3.—Applicant/Individual Contact Information
SF-424 Caption or Block No. | SF-424 Description | 194 Data element name for electronic submission
Contact Person, Name (No. 5) | Type of individual associated with the business process of submitting the application | Individual Type
Contact Person, Name (No. 5) | The individual's first name | First Name.
Contact Person, Name (No. 5) | The individual's last name | Last Name.
Contact Person, Name (No. 5) | The individual's middle name. | Middle Name
Contact Person, name (No. 5) | The individual's name prefix | Prefix.
Contact Person, Name (No. 5) | The individual's name suffix | Suffix.
Contact Person, Name (No. 18a) Authorized Representative, Title | Position title of an individual | Title.
Date Signed (No. 18e) | Date Application Signed | Signature Date.

Table 4.—Applicant/Individual Address Information
SF-424 Caption or Block No. | SF-424 Description | 194 Data element name for electronic submission
Address, City (No. 5) | City of an organization or individual | City.
Address, County (No. 5) | County of an organization or individual | County.
Address, State (No. 5) | State of an organization or individual | State.
Address (No. 5) | Street address of an organization or individual | Street Address.
Address, Zip Code (No. 5) | Zip code of an organization or individual | Zip Code.
Contact Person, Telephone (No. 5) | Telephone number for an organization or individual | Telephone Number.
Fax Number New Addition | Fax number for an organization or individual | Fax Number.
E-Mail Address New Addition | E-Mail address for the individual | E-Mail address.
Country New Addition | Country of an organization or individual | Country.

Table 5.—Project Information
SF-424 Caption or Block No. | SF-424 Description | 194 Data element name for electronic submission
Areas Affected by Project (No. 12) | List only the largest political entities affected (e.g., State, counties, cities) | Geographic Location Name.
Proposed Projected State Date (No. 13) | Self-explanatory (Planned beginning date of project.) | Project Start Date.
Proposed Project Ending Date (No. 13) | Self-explanatory (Planned ending date of project.) | Project End.

Table 6.—SF-424 Cover Page Budget Information
SF-424 Caption or Block No. | SF-424 Description | 194 Data element name for electronic submission
Estimated Funding | Amount requested or to be contributed during the first funding/budget period by each contributor. Value of in-kind contributions should be included on appropriate lines as applicable. If the action will result in a dollar change to an existing award, indicate only the amount of the change. For decreases, enclose the amounts in parentheses. If both basic and supplemental amounts are included, show breakdown on an attached sheet. For multiple program funding, use totals and show breakdown using same categories as item | Budget Item Code, Budget Item Cost.
Estimated Funding | Dollar amount of the budget item | Dollar Amount.

Table 7.—SF-424A Non-Construction Budget
SF-424 Caption or Block No. | SF-424 Description | 194 Data element name for electronic submission
Section A, Budget Summary (Nos. 1-5, a-g) | For applications pertaining to a single Federal grant program (Catalog of Federal Domestic Assistance number) and not requiring a functional or activity breakdown, enter on Line under Column (a) the Catalog program title and the Catalog number in Column (b) | Budget Item Code, Budget Item Cost, Budget Item Name, Budget Item Description, Budget Item Period.
| For applications pertaining to a single program requiring budget amounts by multiple functions or activities, enter the name of each activity or function on each line in Column (a), and enter the Catalog number in Column (b). For applications pertaining to multiple programs where none of the programs require a breakdown by function or activity, enter the Catalog program title on each line in Column (a) and the respective Catalog number on each line in Column (b)
| Lines 1-4, Columns (c) through (g) For new applications, leave Column (c) and (d) blank. For each line entry in Columns (a) and (b), enter in Columns (e), (f), and (g) the appropriate amounts of funds needed to support the project for the first funding period (usually a year)
| Line 5—Show the total for all columns used
Section B, Budget Categories (Nos. 6, a-k) | In the column headings (1) through (4), enter the titles of the same programs, functions, and activities shown on Lines 1-4, Column (a), Section A. When additional sheets are prepared for Section A, provide similar column headings on each sheet. For each program, function or activity, fill in the total requirements for funds (both Federal and non-Federal) by object class categories | Budget Item Code, Budget Item Cost, Budget Item Name, Budget Item Description, Budget Item Period.
| Line 6a-i—Show the totals of Lines 6a to 6h in each column
| Line 6j—Show the amount of indirect cost
| 6k—Enter the total amounts on Lines 6i and 6j. For all applications for new grants and continuation grants the total amount in column (5), Line 6k, should be the same as the total amount shown in Section A, Column (g), Line 5. For supplemental grants and changes to grants, the total amount of the increase or decrease as shown in Columns (1)-(4), Line 6k should be the same as the sum of the amounts in Section A, Columns (e) and (f) on Line 5
| Line 7—Enter the estimated amount of income, if any, expected to be generated from this project. Do not add or subtract this amount from the total project amount, shown under the program
Section C, non-Federal Resources (Nos. 8-12) | Lines 8-11 Enter amounts of non-Federal resources that will be used on the grant. If in-kind contributions are included, provide a brief explanation on a separate sheet | Budget Item Code, Budget Item Cost, Budget Item Name, Budget Item Description, Budget Item Period.
| Column (a)—Enter the program titles identical to Column (a), Section A. A breakdown by function or activity is not necessary
| Column (b)—Enter the contribution to be made by the applicant
| Column (c)—Enter the amount of the State's cash and in-kind contribution if the applicant is not a State or State agency. Applicants which are a State or State agency should leave this column blank
| Column (d)—Enter the amount of cash and in-kind contributions to be made from all other sources
| Column (e)—Enter totals of Columns (b), (c), and (d)
| Line 12—Enter the total for each of Columns (b)-(e). The amount in Column (e) should be equal to the amount on Line 5, Column (f), Section A
Section D, Forecasted Cash Needs (Nos. 13-15) | Line 13—Enter the amount of cash needed by quarter from the grantor agency during the first year | Budget Item Code, Budget Item Cost, Budget Item Name, Budget Item Description, Budget Item Period.
| Line 14—Enter the amount of cash from all other sources needed by quarter during the first year
| Line 15—Enter the totals of amounts on Lines 13 and 14
Section E, Budget Estimates of Federal Funds Needed for Balance of the Project (Nos. 16-20) | Lines 16-19—Enter in Column (a) the same grant program titles shown in Column (a), Section A. A breakdown by function or activity is not necessary. For new applications and continuation grant applications, enter in the proper columns amounts of Federal funds which will be needed to complete the program or project over the succeeding funding periods (usually in years). This section need not be completed for revisions (amendments, changes, or supplements) to funds for the current year of existing grants | Budget Item Code, Budget Item Cost, Budget Item Name, Budget Item Description, Budget Item Period.
| If more than four lines are needed to list the program titles, submit additional schedules as necessary
| Line 20—Enter the total for each of the Columns (b)-(e). When additional schedules are prepared for this Section, annotate accordingly and show the overall totals on this line
Section F, Other Budget Information (Nos. 21-23) | Line 21—Use this space to explain amounts for individual direct object class cost categories that may appear to be out of the ordinary or to explain the details as required by the Federal grantor agency | Budget Item Code, Budget Item Cost, Budget Item Name, Budget Item Description, Budget Item Period, Paragraph Text.
| Line 22—Enter the type of indirect rate (provisional, predetermined, final or fixed) that will be in effect during the funding period, the estimated amount of the base to which the rate is applied, and the total indirect expense
| Line 23—Provide any other explanations or comments deemed necessary

Table 8.—SF-424C Budget Information Construction Program
SF-424 Caption or Block No. | SF-424 Description | 194 Data element name for electronic submission
Budget Information Construction Programs (Nos. 1-17, a-c) | Column (a).—If this is an application for a “New” project, enter the total estimated cost of each of the items listed on lines 1 through 16 (as applicable) under “Cost Classification” | Budget Item Code, Budget Item Cost, Budget Item Description, Budget Item Period.
| If this application entails a change to Item an existing award, enter the eligible amounts approved under the previous award for the items under “Cost Classification”
| Column (b).—If this is an application for a “New” project, enter that portion of the cost of each item in Column a. that is not allowable for Federal assistance. Contact the Federal agency for assistance in determining the allowability of specific costs
| If this application entails a change to an existing award, enter the adjustment [+ or (-)] to the previously approved costs from column (a) reflected in this application
| Line 1—Enter estimated amounts needed to cover administrative expenses. Do not include costs, which are related to the normal functions of government. Allowable legal costs are generally only those associated with the purchases of land, which is allowable for Federal participation and certain services in support of construction of the project
| Line 2—Enter estimated site and right(s)-of-way acquisition costs (this includes purchase, lease, and/or easements)
| Line 3—Enter estimated costs related to relocation advisory assistance, replacement housing, relocation payments to displaced persons and businesses, etc
| Line 4—Enter estimated basic engineering fees related to construction (this includes start-up services and preparation of project performance work plan)
| Line 5—Enter estimated engineering costs, such as surveys, tests, soil borings, etc
| Line 6—Enter estimated engineering inspection costs
| Line 7—Enter estimated costs of site preparation and restoration which are not included in the basic construction contract
| Line 9—Enter estimated cost of the construction contract
| Line 10—Enter estimated cost of office, shop, laboratory, safety equipment, etc., to be used at the facility, if such costs are not included in the construction contract
| Line 11—Enter estimated miscellaneous costs
| Line 12—Total of items 1 through 11
| Line 13—Enter estimated contingency costs (Consult the Federal agency for the percentage of the estimated construction cost to use.)
| Line 14—Enter the total of lines 12 and 13.
| Line 15—Enter estimated program income to be earned during the grant period, e.g., salvaged materials, etc
| Line 16—Subtract line 15 from line 14
| Line 17—This block is for the computation of the Federal share. Multiply the total allowable project costs from line 16, column (c) by the Federal percentage share (this may be up to 100 percent; consult Federal agency for Federal percentage share) and enter the product on line 17

Table 9.—Assurances, Non-Construction (SF-424B)
[To Be Replaced by Proposed Assurance Statement]
SF-424 Caption or block no. | SF-424 Description | 194 Data Element Name for Electronic Submission
Assurance, Federal Debt, State Review | 16. Applicants should contact the State Single Single Point of Contact (SPOC) for Federal Executive Order 12372 to determine whether the application is subject to the State intergovernmental review process | Yes or No Condition.
| 17. This question applies to the applicant organization, not the person who signs as the authorized representative. Categories of debt include delinquent audit disallowances, loans and taxes
| 18. To be signed by the authorized representative of the applicant. A copy of the governing body's authorization for you to sign this application as official representative must be on file in the applicant's office. (Certain Federal agencies may require that this authorization is submitted as part of the application)
Assurance, Federal Debt State Review | See above | Yes or No Condition Description.
Assurance, Federal Debt, State Review | See above | Yes or No Condition Response.
Assurance, Federal Debt, State Review | See above | Yes or No Condition Type.

Table 10.—Assurances, Construction (SF-424D)
[To Be Replaced by Proposed Assurance Statement]
SF-424 Caption or Block No. | SF-424 Description | 194 Data element name for electronic submission
Assurance, Federal Debt, State Review | 16. Applicants should contact the State Single Point of Contact (SPOC) for Federal Executive Order 12372 to determine whether the application is subject to the State intergovernmental review process | Yes or No Condition Date.
| 17. This question applies to the applicant organization, not the person who signs as the authorized representative. Categories of debt include delinquent audit disallowances, loans and taxes
| 18. To be signed by the authorized representative of the applicant. A copy of the governing body's authorization for you to sign this application as official representative must be on file in the applicant's office. (Certain Federal agencies may require that this authorization is submitted as part of the application)
Assurance, Federal Debt State Review | See above | Yes or No Condition Description.
Assurance, Federal Debt, State Review | See above | Yes or No Condition Response.
Assurance, Federal Debt, State Review | See above | Yes or No Condition Type.

[FR Doc. 03-8435 Filed 4-7-03; 8:45 am]

BILLING CODE 3110-01-P